DEPARTMENT OF HOMELAND SECURITY

Coast Guard

33 CFR Part 117

[CGD08-05-035]

Drawbridge Operating Regulations; Galveston Channel, Gulf Intracoastal Waterway, Galveston, TX

AGENCY: Coast Guard, DHS.

ACTION: Notice of temporary deviation from regulations.

SUMMARY: The Commander, Eighth Coast Guard District, has issued a temporary deviation from the regulation governing the operation of the Pelican Island Causeway Bascule Span Bridge across Galveston Channel, mile 4.5, Gulf Intracoastal Waterway, mile 356.1, at Galveston, Texas.

DATES: This deviation is effective from 11 p.m. on Thursday, June 9, 2005, until 9 a.m. on Friday, June 10, 2005.

ADDRESSES: Materials referred to in this document are available for inspection or copying at the office of the Eighth Coast Guard District, Bridge Administration Branch, Hale Boggs Federal Building, Room 1313, 500 Poydras Street, New Orleans, Louisiana, 70130-3310 between 7 a.m. and 3 p.m., Monday through Friday, except Federal holidays. The telephone number is (504) 589-2965. The Bridge Administration Branch maintains the public docket for this temporary deviation.

FOR FURTHER INFORMATION CONTACT: Phil Johnson, Bridge Administration Branch, telephone (504) 589-2965.

SUPPLEMENTARY INFORMATION: The Galveston County Navigation District has requested a temporary deviation in order to replace the synchro motor position transmitter and associated electrical switches of the Pelican Island Bascule Span Bridge across the Galveston Channel, mile 4.5, Gulf Intracoastal Waterway, mile 356.1, west of Harvey Lock at Galveston, Galveston County, Texas. Replacement of the synchro motor position transmitter is necessary for the continued operation of the draw span. This temporary deviation will allow the bridge to remain in the closed-to-navigation position from 11 p.m. on Thursday, June 9, 2005, until 9 a.m. on Friday, June 10, 2005. There may be times, during the closure period, when the draw will not be able to open for emergencies.

The bridge provides 12 feet of vertical clearance in the closed-to-navigation position. Thus, most commercial vessels and some recreational vessels will not be able to transit through the bridge site when the bridge is closed. Navigation on the waterway consists of tugs with tows, fishing vessels and recreational craft including sailboats and powerboats. Due to the existence of a practical alternate route of no greater distance, it has been determined that this closure will not have a significant effect on these vessels.

In accordance with 33 CFR 117.35(c), this work will be performed with all due speed in order to return the bridge to normal operation as soon as possible. This deviation from the operating regulations is authorized under 33 CFR 117.35.

Dated: June 2, 2005.
Marcus Redford,
Bridge Administrator.

[FR Doc. 05-11424 Filed 6-3-05; 3:33 pm]

BILLING CODE 4910-15-P